DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The National Health Service Corps (NHSC) Scholarship Program In-School Worksheets (New)

The National Health Service Corps (NHSC) Scholarship Program was established to help alleviate the geographical and specialty maldistribution of physicians and other health practitioners in the United States. Under this program, health professional students are offered scholarships in return for services in a federally-designated Health Professional Shortage Area (HPSA). If awarded an NHSC Scholarship, the Program will require the schools and the awardees to review and complete relative data collection worksheets for each year that the student is NHSC Scholar.

The Data Sheet Form requests that the NHSC Scholar review the form for accuracy of pertinent information such as, social security number, contact information, current curriculum, and date of graduation information. If the scholar finds the printed information to be accurate, they must sign the form and return it to the NHSC Scholarship Program in the envelope provided. If the NHSC Scholar finds the information inaccurate in regards to their name or contact information, they are to make the necessary changes directly on the form. If the inaccurate information pertains to their curriculum or date of graduation, the scholar will make changes directly on the form and include written notification from their school.

The Verification Sheet Form is sent to the school along with a list of the NHSC scholars who are enrolled at their school for the current academic year. The schools are asked to verify and/or correct the enrollment status of each of the scholars on the list. Once the verification is complete the school must sign and date the form and return it to the NHSC Scholarship Program in the envelope provided.

The Contact Sheet Form is sent to the schools and it requests the contact information of pertinent school officials. This information is used by the NHSC Scholarship Program for future contacts with the schools.

The estimated burden is as follows:

Form name | Number of respondents | Responses per respondent | Hours per response (min) | Total burden hours
Data Sheet | 800 | 1 | 10 | 137
Verification Sheet | 800 | 1 | 10 | 137
Contact Sheet | 800 | 1 | 10 | 137
Total | 800 |  |  | 411

Send comments to Susan G. Queen, Ph.D., HRSA Reports Clearance Officer, Room 14-33, Parklawn Building, 5600 Fishers Lane, Rockville, MD 20857. Written comments should be received within 60 days of this notice.

Dated: July 19, 2000.
Jane Harrison,
Director, Division of Policy Review and Coordination.

[FR Doc. 00-18832 Filed 7-25-00; 8:45 am]

BILLING CODE 4160-15-U